DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 25, 2012. Address written comments to Statutory Import Programs Staff, Room 3720, U.S. Department of Commerce, Washington, DC 20230. Applications may be examined between 8:30 a.m. and 5:00 p.m. at the U.S. Department of Commerce in Room 3720.

Docket Number: 12-022. Applicant: University of Connecticut, 91 N. Eagleville Rd., BSP Bldg Unit 3242, Storrs, CT 06269. Instrument: Electron Microscope. Manufacturer: FEI Company, Czech Republic. Intended Use: The instrument will be used to examine tapeworms of sharks and stingrays, microbial mats, mosses, lichens, algae, diatoms, and other samples. The experiments aim to explore the morphology and anatomy of various plants and animals as a source of information for the assessment of systematics and phylogenetic relationships, as well as other objectives such as investigating the 3-D structure of nanosize films and ceramic fiber composites, and exploring the mechanical properties and arrangement of fibers in heart valves. Justification for Duty-Free Entry: There are no instruments of the same general category manufactured in the United States. Application accepted by Commissioner of Customs: April 24, 2012.

Docket Number: 12-023. Applicant: Howard Hughes Medical Institute, 4000 Jones Bridge Rd., Chevy Chase, MD 20815. Instrument: Electron Microscope. Manufacturer: FEI Company, the Netherlands. Intended Use: The instrument will be used to examine the ultrastructural organization of complex biological specimens such as protein complexes, noninfectious virus and small cells at high resolution to help elucidate their function. Justification for Duty-Free Entry: There are no instruments of the same general category manufactured in the United States. Application accepted by Commissioner of Customs: April 24, 2012.

Dated: May 29, 2012.
Gregory W. Campbell,
Director of Subsidies Enforcement, Import Administration.

[FR Doc. 2012-13481 Filed 6-1-12; 8:45 am]

BILLING CODE 3510-DS-P